DEPARTMENT OF LABOR

Occupational Safety and Health Administration

[Docket No. ICR-1218-0110 (2005)]

Onsite Consultation Agreements; Extension of the Office of Management and Budget's (OMB) Approval of Information Collection (Paperwork) Requirements

AGENCY: Occupational Safety and Health Administration (OSHA), Labor.

ACTION: Request for public comment.

SUMMARY: OSHA solicits public comment concerning its request for an extension of the information collection requirements contained in its onsite consultation agreements (29 CFR 1908).

DATES: Comments must be submitted by the following dates:

Hard copy: Your comments must be submitted (postmarked or received) by August 29, 2995.

Facsimile and electronic transmission: Your comments must be received by August 29, 2005.

ADDRESSES: You may submit comments, identified by OSHA Docket No. ICR-1218-0110(2005), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., ET.

Facsimile: If your comments are 10 pages or fewer in length, including attachments, you may fax them to the OSHA Docket Office at (202) 693-1648.

Electronic: You may submit comments through the Internet at http://ecomments.osha.gov. Follow the instructions on the OSHA Webpage for submitting comments.

Docket: For access to the docket to read or download comments or background materials, such as the complete Information Collection Request (ICR) (containing the Supporting Statement, OMB-83-I Form, and attachments), go to OSHA's Web page at http://www.OSHA.gov. In addition, the ICR, comments and submissions are available for inspection and copying at the OSHA Docket Office at the address above. You also may contact Todd Owen at the address below to obtain a copy of the ICR. For additional information on submitting comments, please see the “Public Participation” heading in the SUPPLEMENTARY INFORMATION section of this document.

FOR FURTHER INFORMATION CONTACT: Todd Owen, Directorate of Standards and Guidance, OSHA, Room N-3609, 200 Constitution Avenue, NW., Washington, DC 20210, telephone (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)).

This program ensures that information is in the desired format, reporting burden (time and costs) is minimal, collection instruments are clearly understood, and the Occupational Safety and Health Administration's (OSHA) estimate of the information collection burden is accurate. The Occupational Safety and Health Act of 1970 (the Act) (29 U.S.C. 651 et seq.) authorizes information collection by employers as necessary or appropriate for enforcement of the Act or for developing information regarding the causes and prevention of occupational injuries, illnesses, and accidents (29 U.S.C. 657).

Section 7(c)(1) of the Act authorizes the Secretary of Labor to, “with the consent of any State or political subdivision thereof, accept and use the services, facilities, and personnel of any agency of such State or subdivision with reimbursement.” Section 21(C) of the Act authorizes the Secretary of Labor (Secretary) to, “consult with and advise employers and employees * * * as to effective means of preventing occupational illnesses and injuries.”

Additionally, Section 21(d) of the Act instructs the Secretary to “establish and support cooperative agreements with the States under which employers subject to the Act may consult with State personnel with respect to the application of occupational safety and health requirements under the Act or under State plans approved under section 18 of the Act.” This gives the Secretary authority to enter into agreements with the States to provide onsite consultation services, and established rules under which employers may qualify for an inspection exemption. To satisfy the intent of these and other sections of the Act, OSHA codified the terms that govern cooperative agreements between OSHA and State governments whereby State agencies provide onsite consultation services to private employers to assist them in complying with the requirements of the OSH Act. The terms were codified as the Consultation Program regulations (29 CFR Part 1908).

The Consultation Program regulations specify services to be provided, and practices and procedures to be followed by the State Onsite Consultation Programs. Information collection requirements set forth in the Onsite Consultation Program regulations are in two categories: State Responsibilities and Employer Responsibilities. Eight regulatory provisions require information collection activities by the State. The Federal government provides 90 percent of funds for onsite consultation services delivered by the States, which result in the information collection. Four requirements apply to employers and specify conditions for receiving the free consultation services.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA proposes to extend the Office of Management and Budget's (OMB) approval of the collection of information (paperwork) requirements necessitated by Onsite Consultation Agreements (29 CFR 1908). In its extension request, OSHA also is proposing to increase the total burden hours for these requirements from 17,530 hours to 21,771 hours. The Agency will include this summary in its request to OMB to extend the approval of the collection of information requirements.

Type of Review: Extension of currently approved information collection requirements.

Title: Onsite Consultation Agreements (29 CFR Part 1908).

OMB Number: 1218-0110.

Affected Public: Business or other for-profits; not-for-profit organizations; Federal Government; State, Local, or Tribal Government.

Number of Respondents: 31,048.

Frequency of Response: Monthly.

Average time Per Response: Varies from 3 minutes (.02 hour) for an employer or plant manager to sign a Safety and health achievement Recognition Program application to 32 hours for an Onsite Consultation Program Manager to submit an agreement once per year.

Estimated Total Burden Hours: 21,771.

Estimated cost (Operation and Maintenance): $0.

IV. Public Participation—Submission of Comments on This Notice and Internet Access to Comments and Submissions

You may submit comments and supporting materials in response to this notice by (1) hardy copy, (2) fax transmission (facsimile), or (3) electronically through the OSHA Webpage. Because of security-related problems, a significant delay may occur in the receipt of comments by regular mail. Please contact the OSHA Docket Office at (202) 693-2350 (TTY (877) 889-5627) for information about security procedures concerning the delivery of submissions by express delivery, hand delivery, hand delivery, and courier service.

All comments, submissions and background documents are available for inspection and copying at the OSHA Docket Office at the above address. comments and submissions posted on OSHA's Web page are available at http://www.OSHA.gov. Contact the OSHA Docket Office for information about materials not available through the OSHA Webpage and for assistance using the Webpage to locate docket submissions.

Electronic copies of this Federal Register notice as well as other relevant documents are available on OSHA's Webpage. Since all submissions become public, private information such as social security numbers should not be submitted.

V. Authority and Signature

Jonathan L. Snare, Acting Assistant Secretary of Labor for Occupational Safety and Health, directed the preparation of this notice. The authority for this notice is the Paperwork Reduction Act of 1995 (44 U.S.C. 3506 et seq.). and Secretary of Labor's Order No. 5-2002 (67 FR 65008).

Dated: Signed at Washington, DC, on June 22, 2005.
Jonathan L. Snare,
Acting Assistant Secretary of Labor.

[FR Doc. 05-12767 Filed 6-27-05; 8:45 am]

BILLING CODE 4510-26-M